DEPARTMENT OF COMMERCE

International Trade Administration

For Inspiration and Recognition of Science and Technology (FIRST), et. al; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). On August 16, 2022, the Department of Commerce published a notice in the Federal Register requesting public comment on whether instruments of equivalent scientific value, for the purposes for which the instruments identified in the docket(s) below are intended to be used, are being manufactured in the United States. See Application(s) for Duty-Free Entry of Scientific Instruments, 87 FR 50289-90, August 16, 2022 (Notice). We received no public comments.

Docket Number: 22-001. Applicant: For Inspiration and Recognition of Science and Technology (FIRST), 200 Bedford Street, Manchester, NH 03101. Instrument: Dual Band 1.17 Gbps Access Point. Manufacturer: Open Mesh Inc., China. Intended Use: According to the applicant, the FIRST Robotics Competition (FRC) (EIN 22-2990908) requires wireless radio communication between student teams' driver controls and their home-build robots. It is crucial that FRC be able to manage the wireless traffic (for safety and team experience reasons). FRC mandates a specific radio (Datto's OM5P-AN, obsolete, or OM5P-AC models, both are dual band 1.17 Gbps access points) with custom firmware which optimizes the radio for the competition use case. This transaction is to secure the radios needed for educational robotic kits for the 2020 season (4,400) air-freighted to meet 2020 season deadlines) and the 2021 season (4,336 shipped via ocean). The applicant certifies that there will not be any use of the foreign instrument by or for the primary benefit of any commercial (for-profit) entity with 5 years after entry of the foreign instrument into the United States customs territory.

Docket Number: 22-002. Applicant: University of California, Riverside, 900 University Avenue, Riverside, CA 92521. Instrument: Customs Pulsed Laser Deposit & Molecular-Beam Epitaxy (PLD/MBE) deposition system. Manufacturer: BEIJING PERFECT TECHNOLOGY CO., LTD., Beijing, China. Intended Use: According to the applicant, the instrument is intended to be used for research purposes for experimental condenses matter physics, spin transport, quantum transport, and spin-dependent physics, graphene, 2D layers, heterostructures, and nanoscale devices, magnetic insulators, heterostructures and interfaces, energy related materials science research.

Docket Number: 22-003. Applicant: University of Chicago Argonne LLC, Operator of Argonne National Laboratory, 9700 South Cass Avenue, Lemont, IL (U.S.A.), 60439-4873. Instrument: High Heat Load Exit Mask Assemblies. Manufacturer: Strumenti Scientific CINEL S.R.L., Italy. Intended Use: According to the applicant, these components will be used to assemble the new high heat load front ends for the Advanced Photon Source upgrade. The front end consists of a series of components that connect the storage ring to the user beamline to deliver a photon beam that will be used as a three-dimensional X-ray microscope for experimental purposes. The materials/phenomena that are studied vary widely from material properties analysis, protein mapping for pharmaceutical companies, X-ray imaging and chemical composition determination. These components will be used exclusively for scientific research for a minimum of 5 years at Argonne National Laboratory. The properties of the materials studied include but are not limited to grain structure, grain boundary and interstitial defects, and morphology. These properties are not only studied at ambient environments but also under high pressure, temperature, stress and strain.

Docket Number: 22-004. Applicant: UChicago Argonne LLC, Operatory of Argonne National Laboratory, 9700 South Cass Avenue, Lemont, IL (U.S.A.) 60439-4873. Instrument: High Energy Monochromators. Manufacturer: Strumenti Scientific CINEL S.R.L., Italy. Intended Use: According to the applicant, these instruments will be used on new beamlines for the Advanced Photon Source upgrade. The monochromators are bandpass optical filters, that allow only a narrow band of wavelengths of X-rays to pass. This is critical for the needs of the beamline's experimental purposes. The materials/phenomena that are studied vary widely from material properties analysis, protein mapping for pharmaceutical companies, X-ray imaging and chemical composition determination. These components will be used exclusively for scientific research for a minimum of 5 years at Argonne National Laboratory. The properties of the materials studied include but are not limited to grain structure, grain boundary and interstitial defects, and morphology. These properties are not only studied at ambient environments but also under high pressure, temperature, stress and strain.

Docket Number: 22-005. Applicant: Cornell University, School of Civil and Environmental Engineering, Hollister Hall (2046), Room #220, 527 College Avenue, Ithaca, NY 14853-3501, USA. Instrument: Semi-automatic single cell sorter. Manufacturer: Hooke Instruments, Ltd., P.R. China. Intended Use: According to the applicant, the research will involve identifying and obtaining novel single cells based on metabolic traits that cannot be identified with simple label/staining, and in addition, we would like to obtain live cells for further culturing and investigation. We are interested in novel and non-culturable organisms/cells that possess combined traits of desire that can be detected using Raman micro-spectroscopy fingerprinting. This unique label-free and ejection-based cell sorter is the only one known that will enable the applicant to eject the single live cell (pre-identified with non-invasive, non-damaging Raman) in complicated bioprocess/environmental (soil water) samples into collectors and then allow us to study them.

Dated: September 14, 2022.
Richard Herring,
Director, Subsidies Enforcement, Enforcement and Compliance.

[FR Doc. 2022-20209 Filed 9-16-22; 8:45 am]

BILLING CODE 3510-DS-P